DEPARTMENT OF TRANSPORTATION

Maritime Administration

46 CFR Part 389

[Docket No. MARAD-2005-22050]

RIN 2133-AB67

Determination of Availability of Coastwise-Qualified Launch Barges

AGENCY: Maritime Administration, Department of Transportation.

ACTION: Notice of reopening and extension of comment period.

SUMMARY: The Maritime Administration is hereby giving notice that the closing date for filing comments on the Determination of Availability of Coastwise-Qualified Launch Barges Notice of Proposed Rulemaking (NPRM) (Docket No. MARAD 2005-22050) has been extended to the close of business (5 p.m. EST) on December 13, 2005.

DATES: The comment date of the NPRM published in the Federal Register on August 15, 2005 (70 FR 47771) is extended from October 14, 2005, to December 13, 2005.

(Authority: 49 CFR 1.66)

Dated: October 12, 2005.
By order of the Maritime Administrator.
Joel C. Richard,
Secretary, Maritime Administration.

[FR Doc. 05-20700 Filed 10-18-05; 8:45 am]

BILLING CODE 4910-81-P